DEPARTMENT OF DEFENSE

Office of the Secretary

[Docket ID: DoD-2025-OS-0020]

Request for Information for 2027 Department of Defense (DoD) State Policy Priorities Impacting Service Members and Their Families

AGENCY: Deputy Assistant Secretary of Defense for Military Community and Family Policy, Department of Defense (DoD).

ACTION: Request for information; response to public comments.

SUMMARY: DoD published a request for information in the Federal Register that provided an opportunity for the public to submit issues that have an impact on Service members and their families, where state governments are the primary agents for making positive change. Each year, DoD selects State Policy Priorities for states to consider that represent barriers resulting from the transience and uncertainty of military life. For example, DoD has asked states to consider remedies to improve school transitions for children in active duty military families to overcome problems with records transfer, class and course placement, qualifying for extra-curricular activities, and fulfilling graduation requirements. The DoD will consider the public submissions in setting those priorities.

FOR FURTHER INFORMATION CONTACT: Mr. Christopher R. Arnold, (571) 309-4712 (voice), christopher.r.arnold18.civ@mail.mil (email), 1500 Defense Pentagon, Room 1C514/1C549, Washington, DC 20301-1500 (mailing address).

SUPPLEMENTARY INFORMATION: On Tuesday, June 17, 2025 (90 FR 25593), the DoD published a notice titled “Request for Information for 2027 Department of Defense (DoD) State Policy Priorities Impacting Service Members and Their Families.” Public comments were accepted for 30-days until July 17, 2025. Fifty-eight public comments were received. The DoD responds to the comments as follows: Thank you for your submission to the docket of DoD-2025-OS-0020-0001, Request for Information for 2027 Department of Defense State Policy Priorities Impacting Service Members and Their Families.

Eleven comments provided potential future DoD State Policy Priorities for further evaluation. We respond as follows:

• Military Spouse Teacher Retirement Portability. The DoD acknowledges two comments regarding the financial challenges military spouse educators (and other professionals) face with non-portable state retirement systems and appreciates suggestions for improving pension flexibility.

• Military Dependent Adult Guardianship in Four Remaining States. The DoD acknowledges the challenges military families face with guardianship portability during PCS moves and supports efforts to streamline interstate recognition processes for the states that have yet to enact supportive policies.

• Military Family Rent Control and Enhanced Interest Rate Protections. The DoD acknowledges military family housing affordability challenges and appreciates state efforts to enhance financial protections beyond Federal requirements.

• Ensuring Seamless Healthcare for Military Families Across States. The DoD acknowledges the healthcare transition challenges faced by military families during PCS moves and supports state efforts to improve provider access and care continuity.

• Lack of Consistent, State-Level Data Access Tools for Military Families Navigating Health and Education Systems. The DoD recognizes the importance of accessible, centralized information systems for military families and appreciates innovative approaches to improving cross-sector resource coordination.

• State-Level Oversight of Military Household Goods Transportation Quality Standards. The DoD acknowledges concerns about household goods moving services and appreciates suggestions for enhanced consumer protection and oversight mechanisms.

• Continuum of Alternatives to Prosecution and Incarceration for Justice-Involved Service Members and Veterans. The DoD recognizes challenges justice-involved service members face and appreciates comprehensive approaches to veteran-specific diversion programs and sentencing considerations that honor military service, ensuring these programs prioritize public safety and incorporate robust protectons against domestic abuse, sexual assault, and violence for both veterans and their familiy members.

• Traumatic Brain Injury Death Certificate Amendment for Military-Related Causation. The DoD recognizes the significant impact of traumatic brain injuries on service members and veterans and appreciates suggestions for supporting affected families through state-level policy measures.

• State Framework for the Military Quality of Life Experience. The DoD recognizes the importance of whole-of-government approaches to military family well-being and appreciates input on replicable executive order frameworks that enhance Federal-State coordination.

• Streamlined WIC Access and BAH Income Exclusion for Military Families. The DoD recognizes challenges military families face accessing WIC benefits during relocations and appreciates recommendations for improving verification processes and income eligibility determinations.

The majority of comments discussed issues that have already been addressed as DoD State Policy Priorities. We respond as follows:

• Military Spouse Attorney Supervision Requirements. The DoD acknowledges concerns about state bar supervision requirements for military spouse attorneys, supports SCRA-compliant licensing practices, and designated Enhanced Spouse License Portability as a DoD State Policy Priority in 2020.

• Paid Family Leave for Military Spouse Employment During Deployments. The DoD acknowledges the employment challenges military spouses face during deployments and has designated Military Exigency Clause in State Family Leave Laws as a DoD State Policy Priority beginning in 2026.

• Military Family School Choice Access and Educational Support Services. The DoD acknowledges educational access challenges for military families, supports state efforts to provide flexible enrollment and comprehensive educational services, and designated Open Enrollment Flexibility as a DoD State Policy Priority in 2022. The DoD has recently designated State Solutions for Military Homeschoolers and Education Policy Implementation and Information Enhancements as DoD State Policy Priorities beginning in 2026.

• Addressing Military Family Childcare Gaps and Fee Assistance Burdens. The DoD acknowledges the critical challenges faced by military families in childcare and designated Access to Quality Child Care as a DoD State Policy Priority in 2023.

• Boosting Military Spouse Employment through Protected Class Status and Preferential Hiring. The Department acknowledges military spouse employment challenges due to frequent relocations and designated Legal Protections for Military Families as a DoD State Policy Priority in 2023 and Military Spouse Hiring Preference in 2024.

• Modernizing MCCYN Eligibility to Include State-Recognized Providers Beyond Traditional Licensure. The DoD acknowledges childcare access challenges for military families and designated Access to Quality Child Care as a DoD State Policy Priority in 2023.

• Limitations on Out-of-District Enrollment for Military Families Stationed at Maxwell Air Force Base, Alabama. The DoD acknowledges challenges military families face with geographic restrictions on quality school access and designated Open Enrollment Flexibility as a DoD State Policy Priority in 2022.

• Military Spouse Educator Employment and Family School Placement Restrictions. The DoD acknowledges challenges military spouse educators face with certification reciprocity and family school placement restrictions across state and district boundaries and designated Military Spouse Teacher Certification as a DoD State Policy Priority in 2017 and Open Enrollment Flexibility DoD in 2022.

• Advancing National Standards for Purple Star Schools. The DoD recognizes the value of State-sponsored recognition programs for military family-friendly schools in supporting military-connected students, and designated the Purple Star Schools Program as a DoD State Policy Priority in 2021 and has recently designated Education Policy Implementation and Information Enhancements as a DoD State Policy Priority beginning in 2026.

• In-State Tuition Access for Military Dependents. The DoD acknowledges the financial challenges military families face with higher education costs due to frequent relocations and designated In-State Tuition Continuity as a DoD State Policy Priority in 2019.

• Non-Transferable High School Graduation Requirements. The DoD acknowledges challenges military-connected students face with varying State graduation requirements and has recently designated Education Policy Implementation and Information Enhancements as a DoD State Policy Priority beginning in 2026.

• Employment Barriers for Military Spouses. The DoD recognizes employment challenges military spouses face due to frequent relocations and designated Interstate Licensing Compacts as a DoD State Priority in 2017 and designated Military Spouse Hiring Preference and Military Spouse Employment and Economic Opportunities as DoD State Policy Priorities in 2024.

• Special Needs Provider Shortages and Military Experience Recognition for State Licensing. The DoD recognizes challenges military families face accessing specialized healthcare providers and service members face translating military experience into civilian credentials, and designated Service Member Licensure and Credit as a DoD State Policy Priority in 2011 and State Support for Military Families with Special Education Needs as a DoD State Policy Priority in 2024.

• Enhancing Access to Mental Health, Emotional, Developmental, and Behavioral Care and Special Education Services for Military Children Through State-Level Policy Reforms. The DoD recognizes challenges military children face accessing mental health care and special education services during relocations, and designated Interstate Licensing Compacts as a DoD State Policy Priority in 2017 and State Support for Children with Special Education Needs in 2024.

• Advancing National Priorities That Support the Academic, Social, and Emotional Well-Being of Highly Mobile Military-Connected Students in K-12 Settings. The DoD recognizes the importance of systematically identifying and supporting military-connected students and designated Advance Enrollment as a DoD State Policy Priority in 2019, the Purple Star Schools Program in 2021, and Open Enrollment Flexibility in 2022. The DoD has recently designated Education Policy Implementation and Information Enhancements as a DoD State Policy Priority beginning in 2026.

• Enhancing Employment and Licensure Portability for Military Spouses in Colorado. The DoD appreciates Colorado-specific recommendations that align with successful approaches in other states to license reciprocity and designated Enhanced Spouse License Portability as a DoD State Policy Priority in 2020.

• Lack of Medicaid Waiver Portability for Military-Connected Children with Disabilities. The DoD recognizes the critical importance of continuous medical care for military children with disabilities across State lines and designated Retention of Medicaid Waiver Status as a DoD State Policy Priority in 2013.

• Inconsistent Access to Special Education Services Due to State Individualized Education Program Transfer Policies. The DoD acknowledges challenges military-connected children with disabilities face with inconsistent special education service delivery and designated State Support for Children with Special Education Needs as a DoD State Policy Priority in 2024.

• Operationalize Advance Enrollment. The DoD acknowledges the importance of clear advance enrollment procedures for military children and has recently designated Education Policy Implementation and Information Enhancements as a DoD State Policy Priority beginning in 2026.

• Military Homeschool Requirement Discrepancy and Continuity Incongruity. The DoD acknowledges educational continuity challenges military homeschool families face during relocations and has recently designated State Solutions for Military Homeschoolers as a DoD State Policy Priority beginning in 2026.

One comment described a problem for which a State-based solution does not currently exist. We respond as follows:

• Interstate Compact for Health Record Recognition After PCS. The DoD acknowledges the challenges of health record documentation for military children during PCS moves.

Some comments articulated gaps in Federal-State coordination within the portfolio of other federal agencies. The DoD has forwarded these concerns as appropriate through official channels. We respond as follows:

• Reserve and Guard Military Student Identifier Compliance. The DoD acknowledges the need for updated Federal regulations to ensure State education department compliance with the Military Student Identifier for all children of Reserve and Guard personnel.

• Permitting States to Offer Remote or Virtual Advance Enrollment to Special Supplemental Nutrition Program for Women and Children Applicants. The DoD recognizes the challenges military families face in maintaining WIC benefits during PCS movesdue to Federal restrictions prohibiting State advance enrollment processes.

Several comments articulated an issue primarily within the purview of states to resolve. Still, they lacked the required elements, such as a detailed problem statement, specific examples of state policy solutions, or the current status of the issue. We respond as follows:

• Military Base Housing Mold Contamination and Private Company Accountability. The DoD acknowledges serious health concerns related to base housing conditions and appreciates input on improving accountability and oversight mechanisms.

• Military Family Support Issues (School Choice, Discounts, Licensing, Childcare, Parental Leave). The DoD acknowledges the range of support needs for military families and appreciates suggestions for comprehensive State-level assistance programs, particularly as they intersect with the DoD State Policy Priorities regarding Enhanced Spouse License Portability, Military Exigency in State Family Leave Laws, and Open Enrollment Flexibility.

• National Guard/Reserve Family Support and Childcare During Drills. The DoD acknowledges unique challenges faced by National Guard and Reserve families and appreciates suggestions for enhanced State-level support services.

• Military Divorce and Systemic State-Level Challenges. The DoD acknowledges the complex legal challenges military families face during divorce proceedings and appreciates input on improving State-level protections and legal sysem consistency.

• NAFCC Accreditation Funding for Military Family Childcare Providers. The DoD acknowledges the importance of maintaining quality standards in military family childcare and appreciates input on accreditation funding approaches.

Several comments were not germane as they appeared to fall outside State-level policy considerations, or discussed issues that were entirely within Federal jurisdiction and not State-administered. We respond as follows:

• EFMP Family Support and Case Management. The DoD acknowledges concerns about EFMP support services and appreciates feedback on program administration and family communication needs.

• TRICARE Eligibility for Federal Employee Reservists and Military Spouse Student Loan Relief. The DoD acknowledges concerns about TRICARE eligibility gaps for Federal employee reservists and military spouse student debt burdens.

• TRICARE Regional Billing Confusion During PCS Moves. The DoD acknowledges billing coordination challenges between TRICARE regions during PCS moves and appreciates feedback on program administration.

• TRICARE Prime Provider Network Reimbursement Issues. The DoD acknowledges concerns about TRICARE provider network adequacy and reimbursement processing affecting military family healthcare access.

• Family Status Priority for Military Shift Scheduling. The DoD acknowledges the challenges military families face balancing duty schedules with family obligations and appreciates feedback on personnel scheduling considerations.

• Financial Burden of Military PCS Moves on Large Families. The DoD acknowledges financial challenges large military families face during PCS moves and appreciates suggestions for State-level financial assistance programs.

• Employment Barriers for Military Spouses at Overseas Assignments. The DoD acknowledges employment challenges military spouses face at overseas assignments and appreciates feedback on base employment opportunities and policies.

• Shipping Two Cars for OCOUS PCS Moves. The DoD acknowledges financial challenges military families face with vehicle transportation during OCONUS assignments and appreciates feedback on PCS entitlement policies.

• Federal Employment Protections for Military Spouse Federal Employees. The DoD acknowledges employment challenges military spouse Federal employees face with agency transfers and telework policies during PCS moves.

• Multiple Federal Policy Issues (TRICARE Coverage, Base Housing, Federal Spouse Remote Work). The DoD acknowledges concerns about healthcare benefits, housing quality, and Federal employment policies affecting military families and appreciates feedback on these Federal programs.

• Addiction in the Military. The DoD acknowledges challenges service members face accessing addiction treatment and appreciates feedback on military healthcare policies and benefit accessibility.

• Employment Discrimination Against Military Spouses/Veteran Spouses within Federal Hiring Practices. The DoD acknowledges concerns about employment discrimination against military spouses and appreciates recommendations for enhanced protections and accountability measures across Federal and State hiring practices.

• Military Justice System Procedures. The DoD acknowledges input about military justice procedures and appreciates all feedback on service member welfare matters.

• Chase's Bill. The DoD acknowledges the importance of accessible mental health and rehabilitation services for service members and appreciates input on policy barriers to care access.

• Military Healthcare Transition Planning and Community Healthcare Capacity. The Department acknowledges concerns about community healthcare capacity during military treatment facility transitions and appreciates input on coordinated planning approaches with state and local partners.

Some comments advocated for funding or partnerships with specific organizations rather than proposing legislative/regulatory changes. We respond as follows:

• Expanding the Cybersecurity Workforce Through Military Spouse Credentialing and Career Mobility. The DoD recognizes the importance of military spouse employment in cybersecurity and IT fields and appreciates new approaches to workforce development and credential portability.

• Assisting Military Families in Adoption Across State Lines. The DoD acknowledges the importance of supporting military families in child welfare matters and appreciates input on service delivery approaches.

One comment lacked coherence. We respond as follows:

• Law Enforcement Argot. Thank you for your input.

Your submission of ideas and advocacy for our military families is both recognized and valued. Each fiscal year, the DoD considers numerous vital State policy issues, with the aim of selecting those that hold the most promise for positively impacting the lives of service members and their families. It is within this competitive and discerning framework that we evaluate, research, and assess all proposed best practices.

We are committed to a rigorous examination of these issues, among others. Our process is designed to ensure that we advance the most impactful and viable initiatives to support our military families effectively.

For the Fiscal Year beginning on October 1, 2026, the Office of the Under Secretary of Defense for Personnel and Readiness recently announced the Department's 2026 State Policy Priorities:

• Education Policy Implementation and Information Enhancements (Approved 2025): States have a valuable opportunity to facilitate improved local implementation of policies designed to support military-connected children and ensure families are empowered with the knowledge they need by clarifying requirements, enhancing communication efforts, and streamlining access to information on state and local education websites.

• Military Exigency Clause in Family Leave Laws (Approved 2025): States can ensure family leave laws include provisions for military-specific needs like deployments, training, and transitions. This enables readiness by reducing family stress during critical mission periods.

• State Solutions for Military Homeschoolers (Approved 2025): Military families homeschool their children at nearly twice the rate of civilian families and face unique challenges associated with military life. State policies that streamline homeschool requirements, expand access to educational resources such as extracurricular activities and sports, and clarify participation requirements for Junior Reserve Officers' Training Corps (JROTC) can contribute to greater stability for military families, which supports retention efforts.

• Military Spouse Employment Preference (Approved 2024): Military spouses in the civilian work force have a 20% unemployment rate, which adversely impacts military family economic security. States can assist in bolstering military families by enacting state laws that permit state and local governments and private industry to offer hiring and procurement preferences for military spouses, recognizing the need to combat military spouse unemployment rates and supporting the financial well-being of military families.

• State Support of Military Families with Special Educational Needs (Approved 2024): Highly mobile children, including military children, are more likely to experience recurring educational disruptions and challenges accessing special education services, particularly those who need access to special education and related services. States can assist military families by ensuring timely establishment of services upon relocation and reducing procedural burdens.

• State Exemption for DoD Family Child Care Homes (Approved 2023): In many cases, in-home child care providers who live off a military installation must be licensed by both the State and the DoD, even when only caring for eligible DoD-affiliated children. By exempting in-home child care providers certified by the DoD from State licensure requirements, States can improve access to family child care for military families.

• State Response to Military Interpersonal Violence (Approved 2023): Interpersonal violence is a pattern of harmful behavior in which one person uses various forms of abuse to assert power and control over another. States can further protect victims of interpersonal violence by enhancing statutes that increase accessibility to civilian protection orders for victims and mandating reciprocal information sharing between military and civilian law enforcement authorities.

• Concurrent Juvenile Jurisdiction (Approved 2022): Military installations subject to exclusive Federal jurisdiction often handle juvenile offenses through the Federal system, which has no established juvenile justice system. Adopting policies that facilitate concurrent jurisdiction between the State and military installation opens the door to the State juvenile justice system and resources, offering improved opportunities for rehabilitation tailored to address juveniles.

• Open Enrollment Flexibility (Approved 2022): Military families can be disadvantaged in school enrollment options for their children due to military-directed moves. States can assist by increasing military-connected students' access to schooling options, allowing them to remain in their current school placement despite a relocation from temporary to permanent housing, and including them within existing enrollment prioritization systems.

• Military Community Representation on State Defense Councils (Approved 2017): The unique needs of military families may go unheard without representation on State-level advisory bodies focused on the defense community. States can establish statewide military defense-focused councils that consider military family readiness and dedicate one or more seats to members of the military community.

• Occupational Licensure Interstate Compacts (Approved 2017): 35% of military spouses require an occupational license to work in their chosen profession. Licensure compacts create seamless licensure portability for all members of a profession, including military spouses and service members. By adopting licensure compacts, states can improve military family financial readiness.

These issues, along with other emeritus State Policy Priorities, will be presented to State governments for their consideration even as these submissions to the Federal Register for 2027 are considered. For more information, please visit www.statepolicy.militaryonesource.mil. As always, our team at the Defense-State Liaison Office, who manage State government relations for the Office of the Secretary of Defense on personnel and readiness issues, stand ready to support state policymakers and the military community fully. Thank you once again for bringing these important issues to our attention.

Dated: November 20, 2025.
Stephanie J. Bost,
Alternate OSD Federal Register Liaison Officer, Department of Defense.

[FR Doc. 2025-20769 Filed 11-21-25; 8:45 am]

BILLING CODE 6001-FR-P